COMMITTEE FOR THE IMPLEMENTATION OF TEXTILE AGREEMENTS

Adjustment of Import Limits for Certain Cotton, Wool and Man-Made Fiber Textile Products Produced or Manufactured in Cambodia and Amendment of Export Visa and Electronic Visa Information System (ELVIS) Requirements for Textiles and Textile Products Integrated into GATT 1994 in the First, Second and Third Stage

October 5, 2004.

AGENCY: Committee for the Implementation of Textile Agreements (CITA).

ACTION: Issuing a directive to the Commissioner, Bureau of Customs and Border Protection adjusting limits and amending visa and ELVIS requirements.

EFFECTIVE DATE: October 14, 2004.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 344-2650, or refer to the Bureau of Customs and Border Protection website at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

Cambodia will accede to the World Trade Organization (WTO) on October 14, 2004. In order to implement the WTO Agreement on Textiles and Clothing (ATC), the import restraint limits for textile products, produced or manufactured in Cambodia and exported during the period January 1, 2004 through December 31, 2004 are being adjusted effective on that date. In addition, the limits are being adjusted for additional carryover and swing, as well as to provide for the Labor Adjustment granted to Cambodia on January 1, 2004 (see 68 FR 68597, published on December 9, 2003).

The ATC provides for the staged integration of textiles and textile products into the General Agreement on Tariffs and Trade (GATT) 1994. For WTO members, the first stage of the integration took place on January 1, 1995, the second stage took place on January 1, 1998, and the third stage took place on January 1, 2002. The products to be integrated in each stage were announced on April 26, 1995 (see 60 FR 21075, published on May 1, 1995 and 63 FR 53881, published on October 7, 1998). The United States will implement the first three stages of integration for Cambodia effective October 14, 2004. Accordingly, certain previously restrained categories have been modified and their limits have been revised. Integrated products will no longer be subject to quota.

In the letter published below, the Chairman of CITA directs the Commissioner of Customs to adjust the 2004 limits.

The United States will not maintain visa and ELVIS requirements on textiles and textile products that were integrated in stage one, two and three, that were produced or manufactured in Cambodia and exported on or after October 14, 2004. In the letter published below, the Chairman of CITA directs the Commissioner of Customs to eliminate existing visa and ELVIS requirements for textiles and textile products that were integrated on January 1, 1995, January 1, 1998 and January 1, 2002, and exported on or after October 14, 2004, produced or manufactured in Cambodia (see 66 FR 63225, published on December 5, 2001). The existing visa and ELVIS requirements for Cambodia will be maintained for goods exported prior to October 14, 2004.

A description of the textile and apparel categories in terms of HTS numbers is available in the CORRELATION: Textile and Apparel Categories with the Harmonized Tariff Schedule of the United States (see Federal Register notice 69 FR 4926, published on February 2, 2004). Also see 68 FR 68597, published on December 9, 2003.

D. Michael Hutchinson,
Acting Chairman, Committee for the Implementation of Textile Agreements.

Committee for the Implementation of Textile Agreements

October 5, 2004.

Commissioner,

Bureau of Customs and Border Protection, Washington, DC 20229.

Dear Commissioner: This directive amends, but does not cancel, the directive issued to you on December 4, 2003 by the Chairman, Committee for the Implementation of Textile Agreements. That directive concern imports of certain cotton, wool and man-made fiber textile products, produced or manufactured in Cambodia and exported during the twelve-month period beginning on January 1, 2004 and extending through December 31, 2004.

Effective on October 14, 2004, you are directed to adjust the current limits for the following categories to reflect Cambodia's accession to the World Trade Organization (WTO), as provided for under the Uruguay Round Agreement on Textiles and Clothing

Category | Adjusted twelve-month limit ¹
331pt./631pt. ² | 187 dozen pairs.
334/634 | 274,134 dozen.
335/635 | 104,726 dozen.
338/339 | 4,309,875 dozen.
340/640 | 1,278,597 dozen.
345 | 132,759 dozen.
347/348/647/648 | 4,606,258 dozen.
352/652 | 1,033,188 dozen.
435 | 25,806 dozen.
438 | 123,985 dozen.
445/446 | 151,537 dozen.
638/639 | 1,582,973 dozen.
645/646 | 338,203 dozen.
¹ The limits have not been adjusted to account for any imports exported after December 31, 2003.
² Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.

You are also directed to amend the current visa and ELVIS requirements for certain textiles and textile products produced or manufactured in Cambodia and exported on or after October 14, 2004.

Effective on October 14, 2004, for goods exported on or after October 14, 2004, export visas and ELVIS transmissions will not be required for textiles and textile products produced or manufactured in Cambodia that were integrated into the General Agreement on Tariffs and Trade (GATT) 1994 on January 1, 1995, January 1, 1998 and January 1, 2002 (see directive dated November 29, 2001). Export visas and ELVIS transmissions will continue to be required for products integrated on January 1, 2002 from Cambodia that were exported prior to October 14, 2004.

In carrying out the above directions, the Commissioner of Customs should construe entry into the United States for consumption to include entry for consumption into the Commonwealth of Puerto Rico.

The Committee for the Implementation of Textile Agreements has determined that these actions fall within the foreign affairs exception to the rulemaking provisions of 5 U.S.C. 553(a)(1).

Sincerely,
D. Michael Hutchinson,
Acting Chairman, Committee for the Implementation of Textile Agreements.

[FR Doc. E4-2569 Filed 10-8-04; 9:45 am]

BILLING CODE 3510-DR-S